DEPARTMENT OF COMMERCE

National Oceanic and Atmospheric Administration

Federal Approval of the Indiana Coastal Management Program

AGENCY: National Oceanic and Atmospheric Administration, U.S. Department of Commerce.

ACTION: Notice of the National Oceanic and Atmospheric Administration, National Ocean Service's approval of the Indiana Coastal Management Program pursuant to the Coastal Zone Management Act of 1972, as amended, 16 U.S.C. 1451 et seq.

SUMMARY: Notice is hereby given that the National Oceanic and Atmospheric Administration (NOAA) approved the Indiana Lake Michigan Coastal Management Program (LMCP) on August 5, 2002, pursuant to the provisions of section 306 of the Federal Coastal Zone Management Act of 1972, as amended, 16 U.S.C. 1455 (CZMA). The LMCP is described in the Indiana Coastal Management Program and Final Environmental Impact Statement (P/FEIS) published on June 21, 2002.

Indiana is the 34th state to receive Federal approval of its coastal management program. Indiana submitted a proposed coastal program to NOAA in April 2001. Upon reaching a preliminary decision that the program met the requirements of the CZMA, and in order to meet its responsibilities under the National Environmental Policy Act, NOAA published the Indian Coastal Management Program and Draft Environmental Impact Statement (P/DEIS) for public review on September 21, 2001. NOAA published the P/FEIS including public comments on the P/DEIS and responses to those comments on June 21, 2001. NOAA has also fulfilled the responsibilities under the Endangered Species Act through consultations with the U.S. Fish and Wildlife Service and the National Marine Fisheries Service. Upon completion of the 30-day review period, NOAA will prepare a Record of Decision in accordance with the requirements of 40 CFR 1502.2 of regulations to implement the National Environmental Policy Act.

The LMCP is the culmination of several years of development by the State of Indiana, in consultation with interest groups, the general public, Federal agencies, and NOAA. The LMCP consists of numerous state policies on diverse coastal management issues which are prescribed by statute and other legal mechanisms and made enforceable under state law. The LMCP will improve the decision making process for determining appropriate coastal land and water uses in light of resource consideration and increase public awareness of coastal resources and processes. The LMCP will increase long term protection of the state's coastal resources, while providing for sustainable economic development.

NOAA approval of the LMCP makes the state eligible for federal financial assistance for program administration and enhancement under sections 305, 306A, 308, 309 and 310 of the CZMA (16 U.S.C. Sec. 1455, 1455a, 1456a, and 1456b). Indiana has submitted an application for $1,150,000 in FY 2002 Federal CZMA funds, which are available for Indiana. These funds will generally be used to assist the state in administering the various state authorities included in the LMCP, as well as be used to fund local management efforts.

NOAA approval of the LMCP also makes operational, as of the date of this Federal Register Notice, the CZMA federal consistency requirement with respect to the LMCP (16 U.S.C. 1456; 15 CFR part 930). Therefore, as of today, direct federal activities occurring within or outside the Indiana coastal zone that are reasonably likely to affect any land or water use or natural resources of the Indiana coastal zone must be consistent to the maximum extent practicable with the enforceable policies of the LMCP. In addition, activities within or outside the Indiana coastal zone requiring a federal license or permit listed in the P/FEIS, and federal financial assistance to state agencies and local governments, that are reasonably likely to affect any land or water use or natural resource of the Indiana coastal zone must be consistent with the enforceable policies of the LMCP.

Chapter 5 of the P/FEIS identifies the enforceable policies of the Indian program. Chapter 11 of the P/FEIS identifies federally licensed or permitted activities subject to the federal consistency requirements. Chapter 4 of the P/FEIS, as well as the CZMA regulations at 15 CFR Part 930, provide specific procedures to be used in the Federal/State coordination process.

ADDRESSES: For further information and for a copy of the Record of Decision, please contact Diana Olinger at (301) 713-3155, Extension 149, or electronic mail at diana.olinger@noaa.gov.

(Federal Domestic Assistance Catalog 11.419 Coastal Zone Management Program Administration)
Dated: August 5, 2002.
Alan Neuschatz,
Associate Assistant Administrator, Management and Budget Office, Ocean Services and Coastal Zone Management, National Oceanic and Atmospheric Administration.

[FR Doc. 02-20294 Filed 8-9-02; 8:45 am]

BILLING CODE 3510-08-M